DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before November 17, 2011.

ADDRESSES: You may submit your comments, identified by “docket number” on the subject line, by any of the following methods:

1. Electronic Mail: zzMSHA-comments@dol.gov. Include the docket number of the petition in the subject line of the message.

2. Facsimile: 202-693-9441.

3. Regular Mail: MSHA, Office of Standards, Regulations and Variances, 1100 Wilson Boulevard, Room 2350, Arlington, Virginia 22209-3939, Attention: Roslyn B. Fontaine, Acting Director, Office of Standards, Regulations and Variances.

4. Hand-Delivery or Courier: MSHA, Office of Standards, Regulations and Variances, 1100 Wilson Boulevard, Room 2350, Arlington, Virginia 22209-3939, Attention: Roslyn B. Fontaine, Acting Director, Office of Standards, Regulations and Variances.

MSHA will consider only comments postmarked by the U.S. Postal Service or proof of delivery from another delivery service such as UPS or Federal Express on or before the deadline for comments. Individuals who submit comments by hand-delivery are required to check in at the receptionist's desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that:

(1) An alternative method of achieving the result of such standard exists which will at all times guarantee no less than the same measure of protection afforded the miners of such mine by such standard; or

(2) That the application of such standard to such mine will result in a diminution of safety to the miners in such mine. In addition, the regulations at 30 CFR 44.10 and 44.11 establish the requirements and procedures for filing petitions for modification.

II. Petitions for Modification

Docket Number: M-2011-031-C.

Petitioner: Chief Mining, Inc., P.O. Box 446, Glen Daniel, West Virginia 25844.

Mine: Jim's Branch No. 2 Mine, MSHA Mine I.D. No. 46-08577, located in Wyoming County, West Virginia.

Regulation Affected: 30 CFR 75.1101-1(b) (Deluge-type water spray system).

Modification Request: The petitioner requests a modification of the existing standard to eliminate the use of blow-off dust covers for the spray nozzles of a deluge-type water spray system. The petitioner states that:

(1) Frequent inspections and functional testing of the system are conducted.

(2) Dust covers are not necessary because the nozzles can be maintained in an unclogged condition through weekly use.

(3) It is burdensome to recap the large number of covers on a weekly basis after each inspection and functional test.

As an alternative to using the blow-off dust covers, the petitioner proposes to:

(1) Conduct a weekly inspection and functional test of the complete deluge-type water spray system; and

(2) Record the result of the examination and functional test and record any malfunction or clogged nozzle detected in a book maintained on the surface. The record will be retained at the mine for one year.

The petitioner asserts that the alternative method will at all times guarantee no less than the same measure of protection afforded the miners at Jim's Branch No. 2 Mine by the existing standard.

Docket Number: M-2011-032-C.

Petitioner: Frontier Coal Company, Inc., 100 Cranberry Creek Drive, Beckley, West Virginia 25801.

Mine: Double Camp No. 1 Mine, MSHA I.D. No. 46-09227, located in Wyoming County, West Virginia.

Regulation Affected: 30 CFR 75.1101-1(b) (Deluge-type water spray system).

Modification Request: The petitioner requests a modification of the existing standard to eliminate the use of blow-off dust covers for the spray nozzles of a deluge-type water spray system. The petitioner states that:

(1) Frequent inspections and functional testing of the system are conducted.

(2) Dust covers are not necessary because the nozzles can be maintained in an unclogged condition through weekly use.

(3) It is burdensome to recap the large number of covers on a weekly basis after each inspection and functional test.

As an alternative to using the blow-off dust covers, the petitioner proposes to:

(1) Conduct a weekly inspection and functional test of the complete deluge-type water spray system; and

(2) Record the result of the examination and functional test and record any malfunction or clogged nozzle detected in a book maintained on the surface. The record will be retained at the mine for one year.

The petitioner asserts that the alternative method will at all times guarantee no less than the same measure of protection afforded the miners at Double Camp No. 1 Mine by the existing standard.

Docket Number: M-2011-033-C.

Petitioner: ACI Tygart Complex, 1200 Tygart Drive, Grafton, West Virginia 26354.

Mine: Tygart #1 Mine, MSHA I.D. No. 46-09192, located in Taylor County, West Virginia.

Regulation Affected: 30 CFR 75.503 (Permissible electric face equipment; maintenance) and 30 CFR 18.35 (Portable trailing cables and cords).

Modification Request: The petitioner requests a modification of the existing standard to permit the maximum length of the 995-volt, three-phase alternating current portable (trailing) cable to exceed 500 feet but not to exceed 1,000 feet in length. The trailing cable will have a 90 degree Celsius insulation rating. The petitioner also requests that the maximum length of the 600-volt, three-phase alternating current trailing cables supplying section ventilation fans, loading machines, roof bolters, and shuttle cars be permitted to exceed 500 feet but not exceed 1,000 feet in length and the trailing cable will have a 90 degree Celsius insulation rating. The petitioner states that:

(1) The trailing cable will not be smaller than No. 2 American Wire Gauge (AWG) for the continuous mining machine, the section ventilation fans, roof bolting machines, and shuttlecars.

(2) All circuit breakers used to protect No. 2/0 AWG cables that exceed 850 feet in length will have instantaneous trip units set to trip at 1,500 amperes. The trip settings of these circuit breakers will be sealed and will have permanent, legible labels. The label will identify the circuit as being suitable for protecting No. 2/0 AWG cables.

(3) Replacement circuit breakers and/or instantaneous trip units used to protect No. 2/0 AWG trailing cables will be set to trip at 1,500 amperes and this setting will be sealed.

(4) All circuit breakers used to protect No. 2 AWG trailing cables exceeding 700 feet in length will have instantaneous trip units set to trip at 800 amperes. The trip setting of these circuit breakers will be sealed and will have permanent, legible labels. The labels will identify the circuit breakers as being set for the size of the cable.

(5) Replacement circuit breakers and/or instantaneous trip units used to protect No. 2 AWG cables will be set to trip at 800 amperes and this unit will be sealed.

(6) During each production day, persons designated by the operator will visually examine the trailing cables to ensure that the cables are in safe operating condition and instantaneous settings are sealed and do not exceed the settings stipulated in this petition.

(7) Any trailing cable that is not in safe operating condition will be removed from service immediately and repaired or replaced.

(8) Each splice or repair in the trailing cable will be made according to the manufacturer's instructions for the splice or repair kit. The outer jacket of each splice or repair will be vulcanized with flame-resistant material or made with material accepted by MSHA as flame resistant.

(9) If mining methods or operation procedures cause or contribute to damage of any trailing cable, the cable will be removed from service immediately, repaired or replaced, and additional precautions will be taken to ensure that in the future the cable is protected and maintained in safe operating condition.

(10) Permanent warning labels will be installed and maintained on the covers of each circuit breaker and the trailing cable disconnecting device(s) indicating that the trailing cable can only be connected to a properly adjusted and sealed circuit breaker. The labels will warn miners not to change or alter the sealed short-circuit settings, and not to connect the trailing cables to an improperly adjusted circuit breaker.

(11) The alternative method will not be implemented until all miners designated to examine the integrity of the seals, verify the short-circuit settings, and examine the trailing cable for defects have received training.

(12) Within 60 days after the proposed decision and order becomes final, proposed revisions for the petitioner's approved 30 CFR Part 48 training plan will be submitted to the District Manager. The revisions will specify task training for miners designated to verify that the short-circuit settings of the circuit interrupting device(s) that protect the affected trailing cables do not exceed the specified settings. The training plan will include:

(a) The hazards of setting the short-circuit interrupting device(s) too high to adequately protect the trailing cable.

(b) How to verify that the circuit interrupting device(s) protecting the trailing cable(s) are properly set and maintained.

(c) Mining methods and operating procedures that will protect the trailing cable(s) against damage.

(d) Proper procedures for examining the affected trailing cables to ensure that the cables are in safe operating condition.

The petitioner asserts that the proposed alternative method will at all times guarantee no less than the same measure of protection to all miners at the Tygart #1 Mine as would be provided by the existing standard.

Docket Number: M-2011-008-M.

Petitioner: Intrepid Potash-New Mexico, LLC, P.O. Box 101, Carlsbad, New Mexico 88221.

Mines: Intrepid Potash East Mine, MSHA I.D. No. 29-00170 and Intrepid Potash West Mine, MSHA I.D. No. 29-00175, located in Eddy County, New Mexico.

Regulation Affected: 30 CFR 57.11052 (Refuge areas).

Modification Request: The petitioner requests a modification of the existing standard to permit the use of compressed air or oxygen in canisters, cylinders, or bottles in lieu of compressed air lines and the use of sealed bottled water supply in lieu of waterlines in the mines. The petitioner states that:

(1) The intent of the standard is to ensure that miners in refuge areas are provided with adequate air and water in the event of an emergency.

(2) The proposed modification will provide an equal degree of safety in that the supply of oxygen and drinking water would be provided by the alternative method.

(3) The reliability of the source of air and water would be enhanced by making the refuge area self-contained.

(4) The source of water and air would not be dependent on the installation of external airlines or waterlines that would be susceptible to mechanical damage or restriction.

(5) Permitting the use of compressed air (oxygen) and water improves the portability of the refuge area, allowing the flexibility of installing refuge areas in close proximity to the working areas in the mine. Under the proposed modification the petitioner proposes to undertake the following:

(a) Supply each refuge area with oxygen and water sufficient for the number of miners for which the refuge area is designed.

(b) Provide training on the refuge area guidelines and instructions for affected personnel at least semi-annually.

(6) In addition, the petitioner proposes to provide commercially purchased bottled water in sealed bottles. Sufficient water will be provided in each refuge area, consisting of 2.5 quarts of water for each person per day for at least 5 days (50 person capacity requires 28-gal/day or a total capacity of 140 gallons). A fresh supply of water will be provided not to exceed 2 years.

(a) A supply of packaged disposable drinking cups (at least 5 cups per person) will be maintained in the refuge area.

(b) The condition and quantity of stored water will be confirmed by inspection on a monthly basis, and written instructions for conservation of water will be provided with the refuge supplies.

(7) For compressed oxygen, the petitioner proposes to supply only medical or airline quality oxygen in refuge areas. A supply of not less than 550 liters of oxygen per day per person for a minimum of 5 days will be provided.

(a) Oxygen cylinders will be stored in a safe manner and in compliance with 30 CFR 57.16005 and 57.16006, and away from flammable and combustible materials. A system of regulating the flow of oxygen and monitoring the reserve available will be provided with the refuge area supplies.

(b) Equipment designed for monitoring the oxygen and carbon dioxide level of the ambient air in the refuge area will be provided with the refuge area supplies.

(c) A purge valve will be installed or provided for rapid installation. The condition of the cylinders will be inspected and pressure tested on a monthly basis.

(d) Sufficient carbon dioxide absorbent material will be provided to maintain a carbon dioxide level below 2.0 percent for the duration and number of miners for which the refuge area is designed.

(e) Written instructions for monitoring and maintaining gas levels within the refuge area will be provided with the refuge supplies.

The petitioner asserts that implementation of the proposed modification will enhance the safety of the miners under emergency conditions and mitigate inherent safety issues with regard to the terms of the existing standard and the proposed alternative method will at all times guarantee no less than the same measure of protection afforded by the existing standard.

Docket Number: M-2011-009-M.

Petitioner: Celite Corporation, 2500 Miguelito Road, Lompoc, California 93436.

Mine: Lompoc Plant, MSHA I.D. No. 04-02848, located in Santa Barbara County, California.

Regulation Affected: 30 CFR 56.20001 (Intoxicating beverages and narcotics).

Modification Request: The petitioner requests a modification of the existing standard to permit alcohol slow-fermented from starch, bearing an alcohol content of less than 10 percent alcohol by volume, commonly called “beer”, to be used at the Lompoc Plant for use in chemical testing that is part of product quality control and research.

The Lompoc Mine is a surface diatomaceous earth mine and processing facility. One of the commercial applications of the finished diatomaceous earth products is as a filtration agent utilized during the brewing process for beer. The finished diatomaceous earth products are integrated onto a fine mesh screen, with other ingredients, thereby creating a “filter-cake.” At the end of the brewing process, following fermentation, which results in the creation of the alcohol-containing liquid that is called “beer,” the beer is passed-through the filter-cake to remove undesirable contaminants. This results in higher clarity of the beer, which is commercially desirable.

Although diatomaceous earth can be an excellent filtration aid in the production of beer, it also contains naturally-occurring iron, which is undesirable in beer production. If the beer absorbs too much iron, the beer will develop a bitter taste, which is not commercially desirable. Soluble iron in beer also has a deleterious effect on beer stability, which is also not commercially desirable. Accordingly, one of the most critical properties of the diatomaceous earth products is its beer-soluble iron (“BSI”) content.

To ensure that the diatomaceous earth products meet the BSI and other applicable specifications, Celite must engage in testing on-site at the Lompoc Plant to identify the BSI content of the diatomaceous earth products as they are processed. The petitioner proposes to:

(1) Store containers of beer at the Lompoc Plant in secure locations with restricted access;

(2) Use the beer for purposes of quality control testing, statistical method control testing, and research testing; and

(3) Store open containers of beer that may be used during more than one testing event at the Lompoc Plant in secure locations with restricted access.

The petitioner states that the consumption of any intoxicating beverages and narcotics (including beer) will be prohibited, and persons under the influence of alcohol or narcotics will not be permitted on site.

The petitioner asserts that modification of the standard will further the goals of the Mine Act by providing an equivalent level of protection for miners as is provided by the existing standard, and will allow Celite to maintain the commercial viability of the products that are mined at the Lompoc Plant.

Dated: October 12, 2011.
Patricia W. Silvey,
Certifying Officer.

[FR Doc. 2011-26852 Filed 10-17-11; 8:45 am]

BILLING CODE 4510-43-P